FEDERAL COMMUNICATIONS COMMISSION

Public Information Collections Approved by Office of Management and Budget

July 25, 2001.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0992.

Expiration Date: 01/31/2002.

Title: Request for Extension of the Implementation Deadline for Non-Recurring Services, CC Docket No. 96-45 (FCC 01-195) and 47 CFR Section 54.507(d)(1)-(4).

Form No.: N/A.

Respondents: Not-for-profit institutions; Business or other for-profit.

Estimated Annual Burden: 850 respondents; 1 hour per response (avg.); 850 total annual burden hours.

Estimated Annual Reporting and Recordkeeping Cost Burden: $0.

Frequency of Response: On occasion; Third Party Disclosure.

Description: 47 CFR Section 54.507(d) provides additional time for recipients under the schools and libraries universal service support mechanism to implement contracts or agreements with service providers for non-recurring services. 47 CFR section 54.507(d) extends the deadline for receipt of non-recurring services from June 30 to September 30 following the close of the funding year. 47 CFR section 54.507(d) establishes a deadline for the implementation of non-recurring services for certain qualified applicants who are unable to complete implementation by the September 30 deadline. Applicants may qualify for an extension of the September 30 deadline for non-recurring services if they satisfy one of four criteria. See 47 CFR section 54.507(d). Applicants who wish to satisfy criterion (3) should submit documentation to the Administrator requesting relief on these grounds on or before the original non-recurring services deadline. With regard to criterion (4), applicants must certify to the Administration that its service provider was unwilling to deliver or install non-recurring services before the expiration of the original non-recurring services installation deadline, because the Administrator had withheld payment for those services on a properly-submitted invoice for more than 60 days after the submission of the invoice. Applicants must make this certification on or before the original non-recurring service installation deadline. See 47 CFR 54.507(d). 47 CFR section 54.507(d) will provide schools and libraries with more time to install non-recurring services.

Obligation to respond: Required to obtain or retain benefits.

OMB Control No.: 3060-0717.

Expiration Date: 07/31/2004.

Title: Billed Party Preference for InterLATA 0+ Calls, CC Docket No. 92-77 (47 CFR Sections 64.703(a), 64.709, 64.710).

Form No.: N/A.

Respondents: Business or other for-profit.

Estimated Annual Burden: 1500 respondents; 466.1 hours per response (avg.); 699,167 total annual burden hours (for all collections approved under this control number).

Estimated Annual Reporting and Recordkeeping Cost Burden: $216,000.

Frequency of Response: On occasion; Annually; Third Party Disclosure.

Description: 47 CFR Section 64.703(a)(1)-(3) requires that operator service providers (OSPs) disclose to consumers their identify, and upon request by the consumer, the rates for the call, collection methods for the charges, and complaint procedures. (No. of respondents: 630; hours per response: 1058.2 hours; total annual burden: 666,666 hours). Pursuant to 47 CFR section 64.703(a)(4) OSPs are required to disclose orally to away-from-home callers, at no cost to such callers, how they may obtain all applicable charges for a call placed through an OSP, without the caller having to hang up to dial a separate number. The OSP must disclose, audibly and distinctly to the consumer, at no charge and before connecting any interstate call, how to obtain rate quotations if the call is to be placed through the carrier selected by the payphone or premises owner. (No. of respondents: 630; hours per response: 21.76 hours; total annual burden: 13,711 hours). 47 CFR Section 64.709 codifies the requirements for OSPs to file informational tariffs with the Commission. (No. of respondents: 300; hours per response: 50 hours; total annual burden: 16,500 hours). 47 CFR Section 64.710 requires providers of interstate operator services to inmates at correctional institutions to identify themselves, audibly and distinctly, to the party to be billed for the call and also disclose immediately thereafter to that party how he or she, without having to hang up to dial a separate number, may obtain the charges for the call, before the carrier may connect, and bill for, a call. (No. of respondents: 570; hours per response: 4 hours; total annual burden: 2280 hours). See 47 CFR Sections 64.703, 64.709 and 64.710. These requirements are necessary to implement 47 U.S.C. Section 226. Obligation to respond: Mandatory.

OMB Control No.: 3060-0855.

Expiration Date: 7/31/2004.

Title: Telecommunications Reporting Worksheet and Associated Requirements, CC Docket No. 96-45.

Form No.: FCC Forms 499-A and 499-Q.

Respondents: Business or other for-profit.

Estimated Annual Burden: 5000 respondents; 16.49 hours per response (avg.); 82,487 total annual burden hours (for all collections approved under this control number).

Estimated Annual Reporting and Recordkeeping Cost Burden: $14,000.

Frequency of Response: On occasion; Quarterly; Annually; Recordkeeping; Third Party Disclosure.

Description: Pursuant to the Communications Act of 1934, as amended, telecommunications carriers (and certain other providers of telecommunications services) must contribute to the support and cost recovery mechanisms for telecommunications relay services, numbering administration, number portability, and universal service. OMB approved the Commission's proposed information collections contained in the Notice of Proposed Rulemaking (NPRM) issued in CC Docket No. 96-45, released May 8, 2001 (FCC01-145). In the NPRM the Commission sought comment on how to streamline and reform both the manner in which the Commission assesses carrier contributions to the universal service fund and the manner in which carriers may recover those costs from their customers. Section 254 of the Communications Act of 1934, as amended, requires carriers providing interstate telecommunications services to contribute to universal service. Under the current universal service rules, carriers' contributions are assessed as a percentage of their interstate and international end-user telecommunications revenues. The Commission specifically sought comment on a proposal to require carriers to contribute to the universal service mechanisms based on a percentage of their collected, instead of gross-billed interstate, and international end-user telecommunications revenues. Under this proposal, carriers may be required to file periodic current revenue reports in addition to the one historical revenue report already required annually. (No. of respondents: 5000; hours per response: 9.5 hours for 3500 respondents for the annual filing and 6 hours per respondent for each quarterly filing, if adopted; total annual burden hours: 81,250 hours). The Commission also sought comment on whether to assess universal service contributions on a flat-fee basis, such as per-line or per account. Under this proposal, carriers may be required to periodically report their line counts or number of accounts. Carriers would continue to file FCC Form 499-A annually as they are required to do under the existing methodology. However, carriers may also be subject to a quarterly filing. (Number of respondents: 5000; hours per response: 6 hours for 3500 respondents for the annual filing, and 3 hours for 2000 respondents for quarterly filing, if adopted; total annual burden: 45,000 hours). OMB also extended approval for the current FCC Form 499-A, FCC Form 499-Q and other requirements associated with the collection. Carriers are required to file FCC Form 499-A annually; carriers are required to file on a quarterly basis FCC Form 499-Q to report their revenues from the prior quarter. Carriers are required to file FCC Form 499-Q by the beginning of the second month in each quarter (i.e., February 1, May 1, August 1, and November 1). Copies of the worksheets and instructions may be downloaded from the Commission's forms web page (www.fcc.gov/forpage.html). Copies may also be obtained from NECA at 973-560-4400. (No. of respondents: 5000; hours per response: 16.4 hours; total annual burden: 82,487 hours). The information is used to calculate contributions to the universal service support mechanisms. Obligation to respond: Mandatory.

Public reporting burden for the collections of information are as noted above. Send comments regarding the burden estimates or any other aspect of the collections of information, including suggestions for reducing the burden to Performance Evaluation and Records Management, Washington, DC 20554.

Federal Communications Commission.
Magalie Roman Salas,
Secretary.

[FR Doc. 01-19502 Filed 8-2-01; 8:45 am]

BILLING CODE 6712-01-P